DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from September 7 to September 11, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: November 10, 2009.
J. Paul Loether,
Chief, National Register of Historic Places/National Historic Landmarks Program.

KEY: State, County, Property Name, Address/Boundary, City, Vicinity, Reference Number, Action, Date, Multiple Name

ALABAMA

Covington County

J.W. Shreve Addition Historic District, 115-300 6th Ave, 302-425 College St., 403-505 E. Three Notch St., Andalusia, 09000692, LISTED, 9/09/09

Mobile County

Garrison, Charles Denby, Sr., House, Co. Rd. 55, approx. 1 mi. NW. of jct. AL 158, Prichard, 09000693, LISTED, 9/09/09

ARIZONA

Maricopa County

Town and Country Scottsdale Residential Historic District, Bounded by 72nd Place on the W., 74th St. on the E., Oak St. on the N., and Monte Vista on the S., Scottsdale, 09000694, LISTED, 9/08/09

CONNECTICUT

Windham County

Quinebaug River Prehistoric Archeological District, Between Rt. 169 and the Quinebaug River, Canterbury, 09000696, LISTED, 9/07/09

MASSACHUSETTS

Norfolk County

Canton Corner Historic District, Roughly Washington St. from Pecunit St. to SW. of Dedham St., and Pleasant St. from Washington St. to Reservoir Rd., Canton, 09000697, LISTED, 9/09/09

Plymouth County

Hatch Homestead and Mill Historic District, 385 Union St., Marshfield, 09000698, LISTED, 9/11/09

NEW YORK

Cayuga County

Hutchinson Homestead, 6080 Lake St., Cayuga, 09000478, LISTED, 9/09/09

Jefferson County

Hubbard, Hiram, House, 34237 NY 126, Champion, 09000699, LISTED, 9/09/09

Nassau County

Manhasset Monthly Meeting of the Society of Friends, 1421 Northern Boulevard, Manhasset, 09000700, LISTED, 9/09/09

NORTH CAROLINA

Harnett County

Dunn Commercial Historic District, Roughly Bounded by Harnett St., Cumberland St., Clinton Ave. & Fayetteville Ave., Dunn, 09000702, LISTED, 9/09/09

Rowan County

Griffith-Sowers House, 5050 Statesville Boulevard, Salisbury vicinity, 09000703, LISTED, 9/09/09

NORTH DAKOTA

Grant County

Evangelisch Lutheraner Dreieinigkeit Gemeinde (Evangelical Lutheran Trinity Church), 63rd St., SW section 15 Township 135 Range 90, New Leipzig vicinity, 09000530, LISTED, 9/09/09

OREGON

Clackamas County

Upper Sandy Guard Station Cabin, 4.5 mi. E. of jct. FS Rds. 18 and 1825, Mt. Hood National Forest, Government Camp vicinity, 09000705, LISTED, 9/09/09

Multnomah County

Hotel Alma, 1201-1217 SW Stark St., Portland, 09000706, LISTED, 9/09/09

(Downtown Portland, Oregon MPS)

Memorial Coliseum, 1401 N. Wheeler Ave./300 N. Winning St., Portland, 09000707, LISTED, 9/10/09

[FR Doc. E9-27620 Filed 11-17-09; 8:45 am]

BILLING CODE P